DEPARTMENT OF LABOR

Employment and Training Administration

[TA-W-75,232]

The Travelers Indemnity Company, a Wholly-Owned Subsidiary of The Travelers Companies, Inc., Personal Insurance Division, Customer Sales and Service Business Unit, Account Processing Unit, Including Teleworkers Located Throughout the United States, Reporting to Knoxville, TN; Amended Certification Regarding Eligibility To Apply for Worker Adjustment Assistance

In accordance with Section 223 of the Trade Act of 1974, as amended (“Act”), 19 U.S.C. 2273, the Department of Labor issued a Certification of Eligibility to Apply for Worker Adjustment Assistance on March 25, 2011, applicable to workers of The Travelers Indemnity Company, a wholly-owned subsidiary of The Travelers Companies, Inc., Personal Insurance Division, Customer Sales and Service Business Unit, Account Processing Unit, Knoxville, Tennessee (subject firm). The workers provide account processing services. The notice was published in the Federal Register on April 11, 2011 (76 FR 20047).

At the request of the State of Tennessee workforce agency, the Department reviewed the certification for workers of the subject firm.

New information shows that worker separations have occurred involving employees under the control of the subject firm who telework from off-site locations throughout the United States. These employees provided various activities related to the supply of account processing services.

Based on these findings, the Department is amending this certification to include employees of the subject firm who telework and report to the Knoxville, Tennessee facility.

The intent of the Department's certification is to include all workers of the subject firm who were adversely affected by a shift in account processing services to India.

The amended notice applicable to TA-W-75,232 is hereby issued as follows:

All workers of The Travelers Indemnity Company, a wholly-owned subsidiary of The Travelers Companies, Inc., Personal Insurance Division, Customer Sales and Service Business Unit, Account Processing Unit, including teleworkers located throughout the United States reporting to, Knoxville, Tennessee, who became totally or partially separated from employment on or after February 10, 2010 through March 25, 2013, and all workers in the group threatened with total or partial separation from employment on date of certification through two years from the date of certification, are eligible to apply for adjustment assistance under Chapter 2 of Title II of the Trade Act of 1974, as amended.

Signed in Washington, DC this 6th day of June, 2011.
Del Min Amy Chen,
Certifying Officer, Office of Trade Adjustment Assistance.

[FR Doc. 2011-14815 Filed 6-14-11; 8:45 am]

BILLING CODE 4510-FN-P